NATIONAL SCIENCE FOUNDATION

Advisory Committee For Environmental Research and Education; Notice of Meeting

In accordance with the Federal Advisory Committee Act (Pub. Law 92-463, as amended), the National Science Foundation announces the following meeting:

Name: Advisory Committee for Environmental Research and Education (9487).

Dates: May 2, 2001; 8:30 a.m.-2:45 p.m. May 3, 2001; 8:30 a.m.-3:30 p.m.

Place: Stafford II, Room 595, National Science Foundation, 4201 Wilson Blvd., Arlington, VA.

Type of Meeting: Open.

Contact Person: Dr. Margaret Cavanaugh, Office of the Director, National Science Foundation, Suite 1205, 4201 Wilson Blvd., Arlington, Virginia 22230. Phone 703-292-8002.

Minutes: May be obtained from the contact person listed above.

Purpose of Meeting: To provide advice, recommendations, and oversight concerning support for environmental research and education.

Agenda

May 2, 2001

Update on recent NSF environmental activities, including the Biocomplexity in the Environment Competition

AC-ERE Task Group meetings and reports on strategic planning; planning for environmental cyberinfrastructure; and education, diversity and communication

Discussion of environmental opportunities with Dr. E. O. Wilson of Harvard University

Discussion of interdisciplinary environmental activities in large groups and centers

May 3, 2001

Discussion of interagency and international ERE activities

Meeting with the Deputy Director

Overview of NSF environmental activities and plans in engineering and in biological sciences

Dated: April 3, 2001.
Susanne Bolton,
Committee Management Officer.

[FR Doc. 01-8539 Filed 4-5-01; 8:45 am]

BILLING CODE 7555-01-M